DEPARTMENT OF HEALTH AND HUMAN SERVICES

Health Care Financing Administration

[HCFA-3053-N]

Medicare Program; Open Town Hall Meeting To Promote and Establish Partnerships Between the Medicare Peer Review Organizations (PROs) and Entities in the Health Care Community To Foster Health Care Quality Improvement—May 15, 2000

AGENCY: Health Care Financing Administration (HCFA), DHHS.

ACTION: Notice of meeting.

SUMMARY: This notice announces the second in a series of Partnership Open Town Hall Meetings for the purpose of exploring and exercising opportunities for the entire health care community to collaborate with the PROs on quality improvement projects that will raise the quality of care provided to Medicare beneficiaries and to all patients. The primary focus of the quality improvement partnerships will be six national clinical topics, including acute myocardial infarction, breast cancer, diabetes, heart failure, pneumonia, and stroke. We view this meeting as an opportunity to develop partnerships with the provider, practitioner, plan, purchaser and beneficiary communities. The meeting is open to the public, but attendance is limited to space available.

DATES The meeting: The meeting will be held on Monday, May 15, 2000, from 9:00 a.m. until 4:00 p.m., EDT.

Written Questions or Statements: We will accept written questions or other statements, not to exceed two (2) single-spaced, typed pages, preferably before the meeting, but until May 30, 2000.

ADDRESSES: The Meeting: The meeting will be held at the Doubletree Hotel Pentagon City National Airport, 300 Army Navy Drive, Arlington, Virginia 22202. The hotel phone number is (703) 416-4100.

Written Questions or Statements: Send written questions or other statements to: Eugene Freund, MD, Clinical Advisor, Quality Improvement Group, Office of Clinical Standards and Quality, Health Care Financing Administration, S3-02-01, 7500 Security Boulevard, Baltimore, Maryland 21244-1850.

FOR FURTHER INFORMATION CONTACT: Monica L. Jackson, JW Associates, LLC; phone: (301) 495-9471; fax: (301) 495-5989; email: mjackson@jwallc.com.

SUPPLEMENTARY INFORMATION:

I. Provisions of This Notice

We are announcing the second in a series of Town Hall Meetings to provide a forum for health care entities and organizations (including practitioners, providers, health plans, other purchasers, beneficiaries and other interested parties) to partner on health care quality improvement projects relating to the activities of the PRO Sixth Round Contract, (also known as the PRO sixth Scope of Work, or 6th SOW). The meeting is open to the public, but attendance is limited to space available. Individuals must register in advance as described in section II of this notice.

The meeting will address partnering on quality improvement projects in both managed care and fee-for-service settings. The meeting will present models of existing partnerships involving the following entities:

—PROs, clinicians, and hospitals.

—PROs and business coalitions.

—Associations and communities.

—HCFA and accrediting bodies.

Additionally, we are very interested in receiving suggestions for additional approaches to collaborating with stakeholders sharing one or more of our quality improvement goals. There will be ample time allotted at the meeting for questions and suggestions.

We will also address concerns and issues regarding how partnering with the PROs can achieve quality improvements for Medicare beneficiaries as well as improved billing and payment accuracy. This second Town Hall Meeting will also provide an opportunity for further information exchange concerning the Health Care Quality Improvement Program (HCQIP) activities delineated in the PRO Sixth Round Contract under the clinical topics described as Tasks 1, 2 and 3.

Task 1 concerns National Quality Improvement Projects which focus on national health improvement clinical topics (for example, Acute Myocardial Infarction, Breast Cancer, Diabetes, Heart Failure, Pneumonia, and Stroke/Transient Ischemic Attack/Atrial Fibrillation). The PROs, in conjunction with their partners, will use standardized sets of quality indicators to identify the greatest opportunities to improve the care of Medicare beneficiaries in these clinical topic areas.

Task 2, Local Quality Improvement Projects, directs each PRO to initiate local projects within its State, in response to local interests, needs and opportunities. We are interested in increasing the PROs' experience in collaborating with providers, practitioners, plans, purchasers and beneficiaries to improve the quality of care they deliver. We are also interested in testing quality indicators and intervention strategies that reflect care in settings other than acute care hospitals and Medicare+Choice plans, as well as those that contribute to reducing the disparities in the quality of care delivered to members of disadvantaged groups.

Task 3 concerns Quality Improvement Projects in conjunction with Medicare+Choice (M+C) Plans. This task requires each PRO to offer its assistance to M+C Plans to implement quality improvement projects as part of the Quality Improvement System for Managed Care (QISMC) standards. Each M+C Plan must initiate two performance improvement projects annually.

Task 4, which is not on the agenda for this meeting, concerns the Payment Error Prevention Program (PEPP). It is a modified review activity that is intended to identify opportunities for improvement in the billing process to reduce the occurrence of incorrect payments resulting from billing errors. It is a cooperative program and includes no punitive actions. Errors may include both over billings and under billings. The error rate will be the total dollars paid, both above and below the correct amount. In the first year of the PROs 6th Round Contract, the PROs will conduct PEPP in two areas: unnecessary admissions and miscoded DRG assignments.

II. Registration and Rooms

JW Associates, LLC, is registering interested parties for the meeting. You may register by sending a fax to the For Further Information Contact. Registration forms may also be found on the Internet at www.jwallc.com. Please include your name, affiliation, address, telephone number, e-mail and fax number on your registration form. A number of rooms have been set aside for meeting attendees. To reserve a room, please contact the hotel directly.

III. Meeting Materials

All meeting materials will be provided at the time of the meeting. A summary of the initial July 1999 Partnership Town Hall Meeting can be found at the following website: www.hcfa.gov/quality/qlty-5b.htm.

Authority: Section 1102 of the Social Security Act (42 U.S.C. 1302).

Dated: April 25, 2000.
Nancy-Ann Min DeParle,
Administrator, Health Care Financing Administration.

[FR Doc. 00-10710 Filed 4-27-00; 8:45 am]

BILLING CODE 4120-01-P